DEPARTMENT OF DEFENSE

Department of the Army; Corps of Engineers

Draft Environmental Impact Statement for Residential, Commercial, and Marine Development Along the Gulf Intracoastal Waterway, Foley Land Cut, Gulf Shores and Orange Beach, Baldwin County, AL

AGENCY: Department of the Army, U.S. Corps of Engineers, DOD.

ACTION: Notice of availability.

SUMMARY: This notice of availability announces the public release of the Draft Environmental Impact Statement (EIS) for evaluation of 15 separate permit applications under the authority of Section 10 of the Rivers and Harbors Act and Section 404 of the Clean Water Act, for proposed mixed-use waterfront development along the Gulf Intracoastal Waterway (GIWW) in Baldwin County, AL, specifically the stretch known as the “Foley Land Cut” (FLC). The Mobile District, U.S. Army Corps of Engineers (Corps) published in the Federal Register, May 26, 2006, (71 FR 30393) a Notice of Intent to Prepare a Draft EIS to evaluate the full range of direct, indirect, and cumulative impacts of the proposed development activities along the shoreline of the FLC. The EIS will be used as a basis for ensuring compliance with the National Environmental Policy Act (NEPA).

FOR FURTHER INFORMATION CONTACT: Questions about the proposed action and the DEIS should be addressed to Mr. Michael B. Moxey, Regulatory Division, phone (251) 694-3771 or e-mail at michael.b.moxey@sam.usace.army.mil, or Ms. Linda T. Brown, Coastal Environment Team, phone (251) 694-3786 or e-mail at linda.t.brown@usace.army.mil, Mobile District, U.S. Army Corps of Engineers, P.O. Box 2288, Mobile, AL 36628-0001.

SUPPLEMENTARY INFORMATION: 1. The permit applications propose construction of 15 mixed-use developments along the FLC consisting of the following: 17 marinas, in excess of 16,700 condominium units, 1,722 wet boat slips, 1,742 dry boat storage spaces, various commercial establishments, support facilities, and resort amenities. The projects are in south Baldwin County on 15 parcels of land, of which 14 are along the northern shoreline of the FLC and are generally bounded to the north by Baldwin County Road (C.R.) 4. The other parcel of land proposed for development is on the Oyster Bay southern shoreline, south of the FLC. The portions of the properties fronting the FLC are expected to be used for water-based developments and will include marinas, ship stores, and associated infrastructure. The remaining portions of the properties are expected to accommodate mixed-use development and will include condominium units; amenities such as pools, boardwalks, and restroom facilities; and light commercial outlets. Construction of the proposed projects would impact approximately 711 acres and require excavation of approximately 3,143,195 cubic yards of material from uplands, wetlands, and waterbottoms.

The DEIS examines the No Action Alternative, Maximum Boat Slip Alternative, and Minimum Boat Slip Alternative, as the principal alternatives for detailed analysis. These alternatives are described in the following paragraphs.

2. Alternative 1: No Action alternative. Under the No Action Alternative, no marinas would be constructed on the FLC. The proposed uplands developments could be constructed along the FLC and Oyster Bay, but dredging of uplands, waterbottoms, or wetlands for marina construction would not be permitted. The No Action Alternative in the EIS serves as a benchmark against which the Preferred Alternative and alternatives can be evaluated.

3. Alternative 2: Maximum Boat Slip alternative. Under the Maximum Boat slip alternative, authorization for up to 3,093 boat slips on the FLC through the year 2025 would be granted. The methodology used to calculate this maximum number is presented in Table 10.3 of the Draft Waterway Capacity Study (WCS) (Appendix R of the EIS). On the basis of implementing management options and approved site plans, the WCS-recommended capacity in the year 2025 to avoid conflict with commercial navigation traffic is 254 boats on the FLC at any time. This capacity translates to 3,639 boat slips on the FLC. Because no detailed guidance exists for calculating waterway capacity for a waterbody similar to the FLC, the WCS recognizes that some uncertainty exists with the recommended capacity. Therefore, a confidence range of ± 15 percent was applied, resulting in a waterway capacity range of 3,093 to 4,185 boat slips. Using a conservative approach in approving permits for marinas along the FLC, the USACE selected the low end of this range as the maximum number of boat slips that will be approved.

4. Alternative 3: Minimum Boat Slip Alternative (Preferred Alternative). Under the Minimum Boat Slip Alternative, authorization for 1,818 boat slips through the first year of construction would initially be granted, with the option of phasing-in 1,150 additional boat slips until the maximum number of slips (3,093) is reached. The methodology used to calculate this number is presented in Table 9.3 of the WCS. This alternative assumes that mitigation management options would not have been implemented by the first year of construction but site plans have been approved. As a result, the WCS-recommended capacity in the year 2025 to avoid conflict with commercial navigation traffic is 191 boats on the FLC at any time. This capacity translates to 2,139 boat slips on the FLC. Because no detailed guidance exists for calculating waterway capacity for a waterbody similar to the FLC, the WCS recognizes that some uncertainty exists with the recommended capacity. Therefore, a confidence range of ±15 percent was applied, resulting in a waterway capacity range of 1,818 to 2,460 boat slips. Using a conservative approach in approving permits for marinas along the FLC, the USACE selected the low end of this range (1,818) as the number of boat slips that will be initially approved. Due to the implementation of mitigation options, specifically the construction of dedicated commercial barge mooring locations, the number of boat slips initially approved increased to 1,943. This number was derived by updating Tables 9.1, 9.3, and 10.2 in the WCS as a result of applying the “Commercial Vessels” updated reduction factor (Appendix R). The option of phasing-in 1,150 additional slips will begin after the first year of construction and occur at a rate of 25 percent (287 slips) every year for four years. An evaluation period will occur each year to evaluate impacts of increased recreational boat traffic on commercial barge navigation and overall waterway safety. During this period, the applicant could implement mitigation management options and provide monitoring reports to include the following:

• Additional baseline data to include marina vessel use, peak volumes/flow rates, and peak hour uses.

• Impacts of projects on safety on the FLC, including Alabama Marine Police and USCG reports.

• Impacts on commercial navigation operations, including impacts on commercial traffic schedules.

If during this evaluation period it is determined that increased recreational boat traffic is having adverse impacts on commercial barge navigation or safety, the USACE has the authority to deny permits for additional boat slips on the FLC.

5. The DEIS will be available for public review at the following locations:

Thomas B. Norton Public Library, 221 W. 19th Avenue, Gulf Shores AL 36542, (251) 968-1176.

Fairhope Public Library, 161 N. Section Street, Fairhope AL 36532, (251) 928-7483.

Foley Public Library, 319 E. Laurel Street, Foley AL 36535, (251) 943-7665.

Orange Beach Public Library, 26267 Canal Rd., Orange Beach AL 36561, (251) 981-2923.

Daphne Public Library, 2607 U.S. Hwy. 98, Daphne AL 36526, (251) 621-2818.

6. Public comments can be submitted through a variety of methods. Written comments may be submitted to the Corps by mail, facsimile, or electronic methods. Additional comments (written or oral) may be presented at the public hearing to be held in March 2009 in Gulf Shores, AL. Additional information on the public hearing will be mailed in a public notice to the agencies and public and announced in news releases.

Dated: February 17, 2009.
Craig J. Litteken,
Chief, Regulatory Division.

[FR Doc. E9-3887 Filed 2-23-09; 8:45 am]

BILLING CODE 3720-58-P